DEPARTMENT OF HEALTH AND HUMAN SERVICES

Administration on Aging

Agency Information Collection Activities; Submission for OMB Review; Comment Request; 2005 Survey of Area Agencies on Aging

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by March 28, 2005.

ADDRESSES: Submit written comments on the collection of information by fax 202-395-6974 or by mail to the Office of Information and Regulatory Affairs, OMB, New Executive Office Bldg., 725 17th St., NW., rm. 10235, Washington, DC 20503, Attn: Brenda Aguilar, Desk Officer for AoA.

FOR FURTHER INFORMATION CONTACT: Cynthia Bauer at 202-357-0145 or Cynthia.Bauer@aoa.hhs.gov.

SUPPLEMENTARY INFORMATION: In compliance with 44 U.S.C. 3507, AoA has submitted the following proposed collection of information to OMB for review and clearance.

2005 Survey of Area Agencies on Aging—NEW—The Administration on Aging is proposing to collect basic descriptive information from all Area Agencies on Aging (AAAs). The multiple purposes of the information collection are to (1) determine the extent to which AAAs are engaged in service system integration and identify areas where attention should be focused; (2) to support the evaluation of Older Americans Act, Title III-B, Supportive Services; (3) to enhance the analysis of data from The Third National Survey of Title III Service Recipients and to assist in the development of stratified sample designs for future national surveys; (4) to develop a very basic descriptive report on health promotion/disease prevention activities to complement case studies under development; and (5) to inform future decisions on performance measurement initiatives and the simplification of program reporting requirements. AoA estimates the burden of this collection of information as follows: Respondents: Area Agencies on Aging; Estimated Number of Respondents: 657; Estimated Burden per Response: one hour; Estimated Total Respondent Burden: 657 hours.

Dated: February 18, 2005.
Josefina G. Carbonell,
Assistant Secretary for Aging.

[FR Doc. 05-3505 Filed 2-23-05; 8:45 am]

BILLING CODE 4154-01-P